MARINE MAMMAL COMMISSION

Correction Notice: Notice of Public Meetings in Alaska Pursuant to the Government in the Sunshine Act and the Federal Advisory Committee Act

AGENCY: Marine Mammal Commission.

ACTION: Correction of notice.

SUMMARY: On January 15, 2016, the Marine Mammal Commission (Commission) announced in the Federal Register (81 FR 2243) plans to hold a series of public meetings in various locations in Alaska in February 2016. This notice corrects the location for the public meeting in Anchorage, AK. The public meeting in Anchorage, AK, will be held February 11, 2016, 8 a.m.-1 p.m. at the William A. Egan Civic and Convention Center, Space 2, Summit Hall, Lower Level, 555 W. 5th Ave., Anchorage, AK 99501. The Anchorage meeting will also be accessible via webinar.

Information for accessing the webinar, instructions for informing the Commission of your intent to participate in the webinar, and updates to the agenda, will be posted at www.mmc.gov at least one week before the Anchorage meeting. Because the number of participants to the webinar will be limited, it is important to notify the Commission of your intention to participate so that we can do our best to accommodate all interested members of the public.

Dated: January 20, 2016.
Rebecca J. Lent,
Executive Director.

[FR Doc. 2016-01397 Filed 1-21-16; 11:15 am]

BILLING CODE 6820-31-P